DEPARTMENT OF EDUCATION

President's Advisory Commission on Educational Excellence for African Americans

AGENCY: President's Advisory Commission on Educational Excellence for African Americans, U.S. Department of Education.

ACTION: Announcement of an open meeting.

SUMMARY: This notice sets forth the schedule and agenda of the meeting of the President's Advisory Commission on Educational Excellence for African Americans. The notice also describes the functions of the Commission. Notice of the meeting is required by section 10(a)(2) of the Federal Advisory Committee Act and intended to notify the public of its opportunity to attend.

DATES: The President's Advisory Commission on Educational Excellence for African Americans meeting will be held on September 14, 2015 at 9:00 a.m.-4:00 p.m. on Capitol Hill in room 1539 Longworth House Office Building (New Jersey Avenue and Independence SE., Washington, DC).

FOR FURTHER INFORMATION CONTACT: David J. Johns, White House Initiative on Educational Excellence for African Americans, 400 Maryland Avenue SW., Washington, DC 20202; telephone: (202) 453-5721.

SUPPLEMENTARY INFORMATION:

Statutory Authority and Function: The President's Advisory Commission on Educational Excellence for African Americans is established under Executive Order 13621, dated July 26, 2012 and extended by Executive Order 13621. The Commission is governed by the provisions of the Federal Advisory Committee Act (FACA) (P.L. 92-463; as amended, 5 U.S.C.A., Appendix 2) which sets forth standards for the formation and use of advisory committees. The purpose of the Commission is to advise the President and the Secretary of Education on matters pertaining to the educational attainment of the African American community, including: (a) The development, implementation, and coordination of educational programs and initiatives at the Department and other agencies to improve educational opportunities and outcomes for African Americans of all ages; (2) efforts to increase the participation of the African American community and institutions that serve the African American community in the Department's programs and in education programs at other agencies; (3) efforts to engage the philanthropic, business, nonprofit, and education communities in a national dialogue on the mission and objectives of this order; and (4) the establishment of partnerships with public, private, philanthropic, and nonprofit stakeholders to meet the mission and policy objectives of its Executive Order.

Meeting Agenda

The Commission will meet to review strategic goals and discuss progress to date; learn about any new federal or department priorities and initiatives impacting the learning and development of African American students of all ages; and discuss recommendations to be made to the President of the United States and to the U.S. Secretary of Education consistent with Executive Order 13621.

Access to Records of the Meeting: The Department will post the official report of the meeting on the Committee's Web site 90 days after the meeting. Pursuant to the FACA, the public may also inspect the materials at 400 Maryland Avenue SW., Washington, DC, by emailing AfAmEvents@ed.gov or by calling (202) 453-5721 to schedule an appointment.

Reasonable Accommodations: The meeting site is accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Electronic Access To This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Authority: Executive Order 13621, dated July 26, 2012.

Ted Mitchell,
Under Secretary, U.S. Department of Education.

[FR Doc. 2015-19340 Filed 8-5-15; 8:45 am]

BILLING CODE P